DEPARTMENT OF COMMERCE

National Oceanic and Atmospheric Administration

RIN: 0648-XS91

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will hold public meetings, December 7-15, 2009, in Anchorage, AK.

DATES: The meetings will be held on December 7 through December 15, 2009. See SUPPLEMENTARY INFORMATION for specific dates and times. All meetings are open to the public, except executive sessions.

ADDRESSES: The meetings will be held at the Anchorage Hilton Hotel, 500 W 3rd Avenue, Anchorage, AK

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Wednesday, December 9 continuing through Tuesday, December 15, 2009. The Council's Advisory Panel (AP) will begin at 8 a.m., Monday, December 7 and continue through Saturday, December 12. The Scientific and Statistical Committee (SSC) will begin at 8 a.m. on Monday, December 7 and continue through Wednesday, December 9, 2009. The Ecosystem Committee will meet December 7, Enforcement Committee will meet December 7, and the Non-Target Committee will meet December 6, 2009.

Council Plenary Session: The agenda for the Council's plenary session will include the following issues. The Council may take appropriate action on any of the issues identified.

Reports:

1. Executive Director's Report

NMFS Management Report (including report on Catch Share Task Force, Arrowtooth MRA report, Chinook Salomon genetic sampling report)

Alaska Department of Fish & Game Report (including report on Halibut Charter logbook)

NOAA Office of Law Enforcement Report

U.S. Coast Guard Report

U.S. Fish & Wildlife Service Report

Protected Species Report (including 2009 Steller Sea Lion survey results).

2. Gulf of Alaska (GOA) Pacific Cod Allocation: Final action on Pacific cod sector split.

3. GOA Rockfish Program: Refine alternatives for analysis.

4. Groundfish Final Catch Specification: Approve 2010/11 specifications.

5. Salmon Bycatch: Final action on Salmon Bycatch Data Collection; Committee report/discussion paper on Bering Sea Aleutian Island Chum Salmon Bycatch; review and revise alternatives for analysis; Report on Rural Community Outreach Committee.

6. Amendment 80 Cooperatives: Initial review of Amendment 80 Cooperative Formation.

7. BSAI Crab Issues: Review progress BSAI crab amendment package/refine alternatives; discussion paper on BSAI Crab Western Aleutian Golden King Crab Emergency Rule; Review alternatives BSAI Snow/Tanner Crab Rebuilding plans.

8. Groundfish Management Issues: Review alternatives for Groundfish Annual Catch Limit requirements; discussion paper on Bristol Bay Trawl closure and walrus; discussion paper on Heigermeister Island Walrus protection; Aleutian Island Processing sideboards - Initial review (T).

9. Other Management Issues: Discuss Marine Protection Area nomination process and action as necessary; review Essential Fish Habitat 5-year evaluation/Habitat Area of Particular Concern criteria; receive report on halibut deck sorting Exempted Fishing Permit; Community Quota Entity Permits from Recency action: report and action as necessary.

10. Staff Tasking: Review Committees and tasking.

11. Other Business.

The SSC agenda will include the following issues:

1. Groundfish Final Catch Specifications

2. Salmon Bycatch Data

3. Amendment 80 Cooperatives

4. Crab Rebuilding Plans

5. Groundfish Management Issues

6. Other Management Issues

The Advisory Panel will address most of the same agenda issues as the Council, except for #1 reports. The Agenda is subject to change, and the latest version will be posted at http://www.alaskafisheries.noaa.gov/npfmc/

Special Accommodations

These meetings are physically accessible to people with disabilities. Requests for sign language interpretation or other auxiliary aids should be directed to Gail Bendixen at (907) 271-2809 at least 7 working days prior to the meeting date.

Dated: November 12, 2009.
Tracey L. Thompson,
Acting Director, Office of Sustainable Fisheries, National Marine Fisheries Service.

[FR Doc. E9-27577 Filed 11-16-09; 8:45 am]

BILLING CODE 3510-22-S